ADMINISTRATIVE CONFERENCE OF THE UNITED STATES

Information Collection Request: Generic Clearance for the Collection of Qualitative Feedback on Agency Service Delivery (Reinstatement Without Change)

AGENCY: Administrative Conference of the United States.

ACTION: 30-day notice of submission to the Office of Management and Budget of a request for reinstatement without change of a previously approved information collection and request for comments.

SUMMARY: As part of a Federal Government-wide effort to streamline the process of seeking feedback from the public on service delivery, the Administrative Conference of the United States (“ACUS” or “the Conference”) has submitted to the Office of Management and Budget (OMB) a request for reinstatement of a Generic Information Collection Request (Generic ICR): “Generic Clearance for the Collection of Qualitative Feedback on Agency Service Delivery” previously approved under the Paperwork Reduction Act (PRA) (44 U.S.C. 3501 et seq.).

DATES: Comments must be submitted by January 23, 2015.

ADDRESSES: Interested persons may submit written comments on the proposed information collection to the Office of Information and Regulatory Affairs, Office of Management and Budget. Comments should be addressed to the attention of the ACUS Desk Officer, and sent by email to oira_submission@omb.eop.gov, or by fax to 202-395-5806, or mailed to the Office of Information and Regulatory Affairs, Office of Management and Budget, New Executive Office Building, 725 17th Street NW., Washington, DC 20503. Please send a copy of your comments to ACUS, 1120 20th Street NW., Suite 706 South, Washington, DC 20036, or by email addressed to dpritzker@acus.gov.

FOR FURTHER INFORMATION CONTACT: David Pritzker, Deputy General Counsel, Administrative Conference of the United States, 1120 20th Street NW., Suite 706 South, Washington, DC 20036; Telephone (202) 480-2080.

SUPPLEMENTARY INFORMATION: Title: Generic Clearance for the Collection of Qualitative Feedback on Agency Service Delivery.

OMB Control Number: 3002-0006.

Abstract: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

The Agency received no comments in response to the 60-day notice published in the Federal Register on October 9, 2014 (79 FR 61047).

Below we provide the Conference's projected average estimates for the next three years:

Current Action: Reinstatement without change of a previously approved collection of information.

Type of Review: Reinstatement without change.

Affected Public: Individuals and households, businesses and organizations, State, Local or Tribal Government.

Average expected annual number of activities: 6.

Average number of respondents per activity: 110.

Annual responses: 660.

Frequency of response: Once per request.

Average minutes per response: 6-60.

Burden hours: 210-285.

An agency may not conduct or sponsor, and a person is not required to respond to, a collection of information unless it displays a currently valid Office of Management and Budget control number.

Dated: December 18, 2014.
Shawne McGibbon,
General Counsel.

[FR Doc. 2014-30058 Filed 12-23-14; 8:45 am]

BILLING CODE 6110-01-P